Proclamation 8722 of September 23, 2011

Gold Star Mother’s and Family’s Day, 2011

By the President of the United States of America

A Proclamation

Since our Nation’s earliest days, the men and women of our Armed Forces have demonstrated the courage and heroism that have come to define America. Across shores, in deserts, and on city streets around the world, extraordinary Americans have given their last full measure of devotion defending the freedoms we cherish. Their ultimate sacrifice is one we can never fully repay, and the enormity of the grief their families carry we can never fully know.

Gold Star mothers and families know the immeasurable cost of fighting for the ideals we believe in, and they know the pride that comes with exemplary service to America. On this day, and every day, we offer them our deep gratitude and respect, and we are inspired by their strength and determination. Through heartbreaking loss, our Gold Star families continue to support one another, serve their communities, and bring comfort to the men and women of our Armed Forces and their families.

Our fallen heroes answered their country’s call to duty, sacrificing all they had and all they would ever know. Their families exemplify that same mark of selflessness and patriotism that has sustained our country and will sustain us through trials to come. We honor their sacrifice, and stand with our service members, military families, and Gold Star families as they have stood for us. Today, we reaffirm our promise to care for those left behind, to uphold the ideals for which the fallen gave their lives, and to carry with us their legacy as we work toward a better future.

The Congress, by Senate Joint Resolution 115 of June 23, 1936 (49 Stat. 1985 as amended), has designated the last Sunday in September as “Gold Star Mother’s Day.”

NOW, THEREFORE, I, BARACK OBAMA, President of the United States of America, by virtue of the authority vested in me by the Constitution and the laws of the United States, do hereby proclaim September 25, 2011, as Gold Star Mother’s and Family’s Day. I call upon all Government officials to display the flag of the United States over Government buildings on this special day. I also encourage the American people to display the flag and hold appropriate ceremonies as a public expression of our Nation’s sympathy and respect for our Gold Star Mothers and Families.

IN WITNESS WHEREOF, I have hereunto set my hand this twenty-third day of September, in the year of our Lord two thousand eleven, and of the Independence of the United States of America the two hundred and thirty-sixth.

[FR Doc. 2011-25198

Filed 9-27-11; 11:15 am]

Billing code 3195-W1-P